ENVIRONMENTAL PROTECTION AGENCY

40 CFR Part 52

[EPA-R09-OAR-2022-0704; FRL-10224-02-R9]

Partial Approval, Conditional Approval, and Partial Disapproval of Air Quality State Implementation Plans; Nevada; Infrastructure Requirements for Fine Particulate Matter

AGENCY: Environmental Protection Agency (EPA).

ACTION: Final rule.

SUMMARY: The Environmental Protection Agency (EPA) is approving in part, conditionally approving in part, and disapproving in part a state implementation plan (SIP) revision submitted by the State of Nevada pursuant to the requirements of the Clean Air Act (CAA or “Act”) for the implementation, maintenance, and enforcement of the 2012 national ambient air quality standards (NAAQS) for particulate matter less than 2.5 micrometers in diameter (PM2.5). As part of this action, we are reclassifying certain regions of the State for emergency episode planning purposes with respect to PM2.5. We are also approving an exemption from emergency episode planning requirements for PM2.5 for the Nevada Division of Environmental Protection (NDEP) and Washoe County. Finally, we are approving two new definitions and four regulatory revisions into the Nevada SIP.

DATES: This rule is effective March 20, 2023.

ADDRESSES: The EPA has established a docket for this action under Docket ID No. EPA-R09-OAR-2022-0704. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with disabilities who needs a reasonable accommodation at no cost to you, please contact the person identified in the FOR FURTHER INFORMATION CONTACT section.

FOR FURTHER INFORMATION CONTACT: Tom Kelly, Air Planning Office (AIR-2), EPA Region IX, 75 Hawthorne Street, San Francisco, CA 94105, (415) 972-3247, or by email at kelly.thomasp@epa.gov.

SUPPLEMENTARY INFORMATION: Throughout this document, “we,” “us,” and “our” refer to the EPA.

Table of Contents

I. Background

II. Public Comments and EPA Responses

III. Final Action

IV. Incorporation by Reference

V. Statutory and Executive Order Reviews

I. Background

A. Statutory Requirements

Section 110(a)(1) of the CAA requires each state to submit to the EPA, within three years after the promulgation of a primary or secondary NAAQS or any revision thereof, a SIP revision that provides for the implementation, maintenance, and enforcement of such NAAQS.

Section 110(a)(2) of the CAA contains the infrastructure SIP requirements, which generally relate to the information, authorities, compliance assurances, procedural requirements, and control measures that constitute the “infrastructure” of a state's air quality management program. These infrastructure SIP requirements (or “elements”) required by section 110(a)(2) are as follows:

• Section 110(a)(2)(A): Emission limits and other control measures.

• Section 110(a)(2)(B): Ambient air quality monitoring/data system.

• Section 110(a)(2)(C): Program for enforcement of control measures and regulation of new and modified stationary sources.

• Section 110(a)(2)(D)(i): Interstate pollution transport.

• Section 110(a)(2)(D)(ii): Interstate pollution abatement and international air pollution.

• Section 110(a)(2)(E): Adequate resources and authority, conflict of interest, and oversight of local and regional government agencies.

• Section 110(a)(2)(F): Stationary source monitoring and reporting.

• Section 110(a)(2)(G): Emergency episodes.

• Section 110(a)(2)(H): SIP revisions.

• Section 110(a)(2)(J): Consultation with government officials, public notification, prevention of significant deterioration (PSD), and visibility protection.

• Section 110(a)(2)(K): Air quality modeling and submittal of modeling data.

• Section 110(a)(2)(L): Permitting fees.

• Section 110(a)(2)(M): Consultation/participation by affected local entities.

Two elements identified in section 110(a)(2) are not governed by the three-year submittal deadline of section 110(a)(1) and are therefore not addressed in this action. These two elements are: (i) section 110(a)(2)(C), to the extent it refers to permit programs required under part D (nonattainment new source review (NSR)), and (ii) section 110(a)(2)(I), pertaining to the nonattainment planning requirements of part D. As a result, this action does not address requirements for the nonattainment NSR portion of section 110(a)(2)(C) or the whole of section 110(a)(2)(I).

B. NAAQS Addressed by This Final Rule

On January 15, 2013, the EPA promulgated a revised primary NAAQS for PM2.5, triggering a requirement for states to submit infrastructure SIPs by December 15, 2015. The revised standard lowered the annual PM2.5 NAAQS to 12.0 micrograms per cubic meter (μg/m³) to provide increased protection against health effects associated with long- and short-term exposures (including premature mortality, increased hospital admissions and emergency department visits, and development of chronic respiratory disease).¹

¹ 78 FR 3086 (January 15, 2013).

The NDEP made a submittal addressing the infrastructure SIP requirements for the 2012 PM2.5 NAAQS on December 11, 2015 (“Nevada's Infrastructure SIP Submittal”).² It included separate sections for Clark County ³ and Washoe County.⁴ We refer to each individual section as that agency's or County's portion of the submittal. In accordance with CAA section 110(k)(1)(B), Nevada's Infrastructure SIP Submittal became complete by operation of law on June 11, 2016.

² Letter and enclosures from David Emme, Administrator, NDEP, to Jared Blumenfeld, Regional Administrator, EPA Region IX, RE: The Nevada State Implementation Plan for the 2012 Annual Primary Fine Particulate Matter NAAQS, dated December 11, 2015, with enclosures including the Nevada Division of Environmental Protection Portion of the Nevada State Implementation Plan for the 2012 Annual Primary Fine Particulate Matter NAAQS, dated December 11, 2015.

³ Letter from Lewis Wallenmeyer, Director, Clark County Department of Air Quality, to David Emme, Administrator, NDEP, Subject: “the Clark County Portion of the PM2.5 State Implementation Plan,” dated August 20, 2015, including the enclosed Clark County Portion of the State Implementation Plan to Meet the PM2.5 SIP Requirements of the Clean Air Act Section 110(a)(2), dated August 2015.

⁴ Letter from Charlene Albee, Director, Washoe County Health District, to Dave Emme, Administrator, Nevada Division of Environmental Protection, Subject: “PM2.5 State Implementation Plan for the 2012 Annual NAAQS,” dated December 4, 2015, with enclosures, including: the Washoe County Portion of the Nevada State Implementation Plan to Meet the PM2.5 Infrastructure SIP Requirements of Clean Air Act Section 110(a)(2), dated October 22, 2015.

C. EPA's Proposal

1. Approvals and Partial Approvals

(a) Infrastructure SIP Requirements

On October 20, 2022, we proposed to approve and partially approve Nevada's Infrastructure SIP Submittal for the requirements of the following sections of the CAA: ⁵

⁵ 87 FR 63744 (October 20, 2022).

• 110(a)(2)(A): Emission limits and other control measures.

• 110(a)(2)(B): Ambient air quality monitoring/data system.

• 110(a)(2)(C) (in part): Program for enforcement of control measures (full approval), and regulation of new stationary sources (approval for Clark County only) and minor sources (full approval).

• 110(a)(2)(D) (in part): Interstate Pollution Transport.

o 110(a)(2)(D)(i)(I)—significant contribution to a nonattainment area (prong 1).

o 110(a)(2)(D)(i)(I)—interference with a maintenance area (prong 2).

o 110(a)(2)(D)(i)(II) (in part)—interference with PSD (prong 3) (approval for Clark County only).

o 110(a)(2)(D)(ii) (in part)—interstate pollution abatement (approval for Clark County only) and international air pollution.

• 110(a)(2)(E): Adequate resources and authority, conflict of interest, and oversight of local governments and regional agencies.

• 110(a)(2)(F): Stationary source monitoring and reporting.

• 110(a)(2)(G): Emergency episodes.

• 110(a)(2)(H): SIP revisions.

• 110(a)(2)(J) (in part): Consultation with government officials, public notification (conditional approval for NDEP and Washoe County, approval for Clark County), and PSD and visibility protection (approval for Clark County only).

• 110(a)(2)(K): Air quality modeling and submission of modeling data.

• 110(a)(2)(L): Permitting fees.

• 110(a)(2)(M): Consultation/participation by affected local entities.

(b) Proposed Approval of State Provisions Into the Nevada SIP

As part of our proposed action of Nevada's Infrastructure SIP Submittal, we proposed approval of several state regulations into the Nevada SIP. Two provisions, NAC 445B.1349 and NAC 445B.1355, define “PM2.5 emissions” and “PM10 emissions,” respectively, to include vapors that can condense to form PM2.5 and PM10. Three provisions are revisions to NAC 445B.2203, NAC 445B.2207, and NAC 445B.22096 and replace the term “emissions of PM10” with “PM10 emissions,” Finally, NAC 445B.22097 revises the State annual PM2.5 emissions standard from 15.0 µg/m³ to 12.0 µg/m³ to be consistent with the 2012 PM2.5 NAAQS.

2. Conditional Approvals

The EPA proposed to conditionally approve of the portions of the NDEP and Washoe County Infrastructure SIP Submittals addressing the public notification requirements of CAA section 110(a)(2)(J) for the 2012 PM2.5 NAAQS.

3. Partial Disapprovals

The EPA proposed to partially disapprove Nevada's Infrastructure SIP Submittal with respect to the following infrastructure SIP requirements:

• 110(a)(2)(C) (in part): Regulation of new and modified stationary sources (disapproval for the NDEP and Washoe County).

• 110(a)(2)(D)(i)(II) (in part): interference with PSD (prong 3) (disapproval for the NDEP and Washoe County).

• 110(a)(2)(D)(ii) (in part): interstate pollution abatement (disapproval for the NDEP and Washoe County).

• 110(a)(2)(J) (in part): PSD (disapproval for the NDEP and Washoe County).

Although the NDEP and Washoe County portions of the SIP remain deficient with respect to PSD requirements, the EPA noted that the proposed disapproval, if finalized, would have no consequences, as both agencies implement the Federal PSD program at 40 CFR 52.21 for all regulated NSR pollutants, pursuant to delegation agreements with the EPA.

3. Reclassification and Exemption

We proposed to retain the Priority I classification for the Las Vegas Intrastate and Northwest Nevada Intrastate Air Quality Control Regions (AQCR) and reclassify the Nevada Intrastate AQCR to Priority III. Priority I regions are required to have SIP approved emergency episode plans, also called contingency plans. We proposed to exempt the Northwest Nevada Intrastate AQCR, which includes areas regulated by the NDEP and Washoe County, from this requirement pursuant to 40 CFR 51.152(d)(1) due to the AQCR's attainment status.

4. Deferred Action

The EPA did not propose action on the interstate transport visibility requirements of 110(a)(2)(D)(i)(II), which is also called Prong 4 of the interstate transport requirements. On August 12, 2022, NDEP and Clark County withdrew the Prong 4 element in the Nevada's Infrastructure SIP Submittal and submitted a revised Prong 4 element with the State's Regional Haze Plan for the 2nd Planning Period.⁶ The EPA intends to act on the revised Prong 4 element when we act on Nevada's Regional Haze Plan for the 2nd Planning Period.

⁶ See letter dated August 12, 2022, from Greg Lovato, Administrator, Nevada Department of Environmental Protection, to Martha Guzman, Regional Administrator, EPA Region IX, re: The Nevada State Implementation Plan for the Regional Haze Rule for the Second Planning Period; Withdrawal and Replacement of Elements of the 2012 PM2.5 NAAQS and 2015 Ozone NAAQS Infrastructure SIPs.

II. Public Comments and EPA Responses

The EPA's proposed action provided a 30-day public comment period that ended on November 16, 2020. During this period, the EPA received three separate anonymous comments. The full text of all three comments is available in the docket for this rulemaking.

One commenter stated that the rulemaking was a good idea but noted that Reno had bad air quality a few months ago and suggested that stricter air quality standards would improve air quality. After reviewing the comment, the EPA has determined that the comment is supportive of our action and does not necessitate a substantive response. However, we also note that the purpose of infrastructure SIP submittals is to provide for the implementation, maintenance, and enforcement of each primary or secondary NAAQS. The requirement to develop control measures to improve air quality typically occurs as part of the EPA's nonattainment plan review under Part D of title I of the CAA when an area is not attaining the NAAQS.⁷ Here, however, the entire State of Nevada is designated attainment for the 2012 PM2.5 NAAQS and our action has merely evaluated whether the state meets CAA “infrastructure” requirements under section 110(a)(2) of the Act.

⁷ As noted in section I.A. of this document and in the EPA's 2013 guidance on infrastructure SIPs, two elements identified in section 110(a)(2) are not governed by the three-year submittal deadline of section 110(a)(1) and are therefore not addressed in this action. These two elements are: (i) section 110(a)(2)(C) to the extent it refers to permit programs required under part D (nonattainment NSR), and (ii) section 110(a)(2)(I), pertaining to the nonattainment planning requirements of part D. As a result, this action does not address requirements for the nonattainment NSR portion of section 110(a)(2)(C) or the whole of section 110(a)(2)(I). See “Guidance on Infrastructure State Implementation Plan (SIP) Elements under Clean Air Act Sections 110(a)(1) and 110(a)(2),” Memorandum from Stephen D. Page, September 13, 2013.

Another commenter recommended that the EPA hold states accountable for not meeting air quality standards and suggested a causal link between political party affiliation and death rates among young people. After reviewing the comment, the EPA has determined that the comment fails to raise issues germane to our proposed finding that the State of Nevada largely meets the infrastructure SIP requirements of section 110(a)(2) of the Act, which only evaluated the State's ability to implement, maintain, and enforce the 2012 PM2.5 NAAQS. Therefore, we have determined that this comment does not necessitate a response, and the EPA will not provide a specific response to the comment in this document.

The final comment recommended that the Federal Government impose strict air quality standards on the State of Utah and proposed a variety of measures the State of Utah should take to improve environmental quality. After reviewing the comment, the EPA has determined that the comment fails to raise issues germane to our proposed finding that the State of Nevada largely meets the infrastructure SIP requirements of section 110(a)(2) of the Act, which only evaluated the State's ability to implement, maintain, and enforce the 2012 PM2.5 NAAQS. Therefore, we have determined that this comment does not necessitate a response, and the EPA will not provide a specific response to the comment in this document.

III. Final Action

A. Partial Approvals, Conditional Approvals, and Partial Disapprovals

Under CAA section 110(a), we are partially approving and partially disapproving Nevada's Infrastructure SIP submittal for the 2012 PM2.5 NAAQS. Specifically, we are fully approving the submittal for the requirements of CAA sections:

• 110(a)(2)(A): Emission limits and other control measures.

• 110(a)(2)(B): Ambient air quality monitoring/data system.

• 110(a)(2)(C) (in part): Program for enforcement of control measures (full approval), and regulation of new stationary sources (approval for Clark County only) and minor sources (full approval).

• 110(a)(2)(D) (in part): Interstate Pollution Transport.

○ 110(a)(2)(D)(i)(I)—significant contribution to a nonattainment area (prong 1).

○ 110(a)(2)(D)(i)((I)—interference with a maintenance area (prong 2).

○ 110(a)(2)(D)(i)(II) (in part)—interference with PSD (prong 3) (approval for Clark County only) and visibility transport (prong 4) (deferred).

○ 110(a)(2)(D)(ii) (in part)—interstate pollution abatement (approval for Clark County only) and international air pollution.

• 110(a)(2)(E): Adequate resources and authority, conflict of interest, and oversight of local governments and regional agencies.

• 110(a)(2)(F): Stationary source monitoring and reporting.

• 110(a)(2)(G): Emergency episodes.

• 110(a)(2)(H): SIP revisions.

• 110(a)(2)(J) (in part): Consultation with government officials, public notification (conditional approval for NDEP and Washoe County, approval for Clark County), and PSD and visibility protection (approval for Clark County only).

• 110(a)(2)(K): Air quality modeling and submission of modeling data.

• 110(a)(2)(L): Permitting fees.

• 110(a)(2)(M): Consultation/participation by affected local entities.

The EPA is taking final action to conditionally approve of the portions of the NDEP and Washoe County portions of Nevada's Infrastructure SIP Submittal addressing the public notification requirements of CAA section 110(a)(2)(J) for the 2012 PM2.5 NAAQS.

We are taking final action to disapprove Nevada's Infrastructure SIP Submittal with respect to the following infrastructure SIP requirements:

• 110(a)(2)(C) (in part): Regulation of new and modified stationary sources (disapproval for the NDEP and Washoe County).

• 110(a)(2)(D)(i)(II) (in part): interference with PSD (prong 3) (disapproval for the NDEP and Washoe County).

• 110(a)(2)(D)(ii) (in part): interstate pollution abatement (disapproval for the NDEP and Washoe County).

• 110(a)(2)(J) (in part): PSD (disapproval for the NDEP and Washoe County).

Although the NDEP and Washoe County portions of the SIP remain deficient with respect to PSD requirements, this final disapproval action has no consequences, as both agencies implement the Federal PSD program at 40 CFR 52.21 for all regulated NSR pollutants, pursuant to delegation agreements with the EPA.

B. Approval of Updated Nevada State-Wide Provisions

In this final action, the EPA is also approving in the Nevada SIP revisions to the Nevada Administrative Code (NAC). The EPA is approving into the SIP two new provisions, NAC 445B.1349 and NAC 445B.1355, to define “PM2.5 emissions” and “PM10 emissions” to include vapors that can condense to form PM2.5 and PM10. In addition, the EPA is approving revisions to NAC 445B.2203, NAC 445B.2207, and NAC 445B.22096 and replace the term “emissions of PM10” with “PM10 emissions.” Finally, the EPA is approving into the Nevada SIP NAC 445B.22097 to revise the State annual PM2.5 emissions standard from 15.0 µg/m³ to 12.0 µg/m³ to be consistent with the 2012 PM2.5 NAAQS. These new and updated provisions strengthen the SIP or clarify certain terms in the SIP, as discussed in the proposed rule, and meet the requirements of CAA sections 110(a)(2), 110(l), and 193. Therefore, the EPA is approving the submitted new and revised rules into the Nevada SIP as proposed.

C. Reclassification and Exemption of AQCRs for Emergency Episode Planning

This final rule retains the classification of the Las Vegas Intrastate and Northwest Nevada Intrastate AQCRs as Priority I for emergency episodes and reclassifies the Nevada Intrastate AQCR to Priority III. This approval also exempts the Northwest Nevada Intrastate AQCR, which includes areas regulated by the NDEP and Washoe County, from the emergency episode plan requirement pursuant to 40 CFR 51.152(d)(1) due to the AQCR's attainment status.

IV. Incorporation by Reference

In this rule, the EPA is finalizing regulatory text that includes incorporation by reference as described in Section III.B. and set forth below in the amendments to 40 CFR part 52. The EPA has made, and will continue to make, these documents available through https://www.regulations.gov and at the EPA Region IX Office (please contact the person identified in the FOR FURTHER INFORMATION CONTACT section of this preamble for more information).

V. Statutory and Executive Order Reviews

Additional information about these statutes and Executive orders can be found at https://www.epa.gov/laws-regulations/laws-and-executive-orders.

A. Executive Order 12866: Regulatory Planning and Review and Executive Order 13563: Improving Regulation and Regulatory Review

This action is not a significant regulatory action and was therefore not submitted to the Office of Management and Budget (OMB) for review.

B. Paperwork Reduction Act (PRA)

This action does not impose an information collection burden under the PRA because this action does not impose additional requirements beyond those imposed by state law.

C. Regulatory Flexibility Act (RFA)

I certify that this action will not have a significant economic impact on a substantial number of small entities under the RFA. This action will not impose any requirements on small entities beyond those imposed by state law.

D. Unfunded Mandates Reform Act (UMRA)

This action does not contain any unfunded mandate as described in UMRA, 2 U.S.C. 1531-1538, and does not significantly or uniquely affect small governments. This action does not impose additional requirements beyond those imposed by state law. Accordingly, no additional costs to State, local, or tribal governments, or to the private sector, will result from this action.

E. Executive Order 13132: Federalism

This action does not have federalism implications. It will not have substantial direct effects on the states, on the relationship between the National Government and the states, or on the distribution of power and responsibilities among the various levels of government.

F. Executive Order 13175: Coordination With Indian Tribal Governments

This action does not have tribal implications, as specified in Executive Order 13175, because the SIP is not approved to apply on any Indian reservation land or in any other area where the EPA or an Indian tribe has demonstrated that a tribe has jurisdiction and will not impose substantial direct costs on tribal governments or preempt tribal law. Thus, Executive Order 13175 does not apply to this action.

G. Executive Order 13045: Protection of Children From Environmental Health Risks and Safety Risks

The EPA interprets Executive Order 13045 as applying only to those regulatory actions that concern environmental health or safety risks that the EPA has reason to believe may disproportionately affect children, per the definition of “covered regulatory action” in section 2-202 of the Executive order. This action is not subject to Executive Order 13045 because it does not impose additional requirements beyond those imposed by state law.

H. Executive Order 13211: Actions That Significantly Affect Energy Supply, Distribution, or Use

This action is not subject to Executive Order 13211, because it is not a significant regulatory action under Executive Order 12866.

I. National Technology Transfer and Advancement Act (NTTAA)

Section 12(d) of the NTTAA directs the EPA to use voluntary consensus standards in its regulatory activities unless to do so would be inconsistent with applicable law or otherwise impractical. The EPA believes that this action is not subject to the requirements of section 12(d) of the NTTAA because application of those requirements would be inconsistent with the CAA.

J. Executive Order 12898: Federal Actions To Address Environmental Justice in Minority Populations and Low-Income Populations

The state did not evaluate environmental justice considerations as part of its SIP submittal. There is no information in the record inconsistent with the stated goals of E.O 12898 of achieving environmental justice for people of color, low-income populations, and indigenous peoples.

K. Congressional Review Act (CRA)

This action is subject to the CRA, and the EPA will submit a rule report to each House of the Congress and to the Comptroller General of the United States. This action is not a “major rule” as defined by 5 U.S.C. 804(2).

L. Petitions for Judicial Review

Under section 307(b)(1) of the Clean Air Act, petitions for judicial review of this action must be filed in the United States Court of Appeals for the appropriate circuit by April 17, 2023. Filing a petition for reconsideration by the Administrator of this final rule does not affect the finality of this rule for the purposes of judicial review nor does it extend the time within which a petition for judicial review may be filed and shall not postpone the effectiveness of such rule or action. This action may not be challenged later in proceedings to enforce its requirements (see section 307(b)(2)).

List of Subjects in 40 CFR Part 52

Environmental protection, Administrative practice and procedure, Air pollution control, Incorporation by reference, Intergovernmental relations, Reporting and recordkeeping requirements.

Authority: 42 U.S.C. 7401 et seq.

Dated: February 6, 2023.
Martha Guzman Aceves,
Regional Administrator, Region IX.

Chapter I, title 40 of the Code of Federal Regulations is amended as follows:

PART 52—APPROVAL AND PROMULGATION OF IMPLEMENTATION PLANS

1. The authority citation for part 52 continues to read as follows:

Authority: 42 U.S.C. 7401 et seq.

Subpart DD—Nevada

2. Amend § 52.1470 as follows:

a. In paragraph (c), table 1:

i. Under the table heading “Nevada Administrative Code, Chapter 445B, Air Controls, Air Pollution; Nevada Administrative Code, Chapter 445, Air Controls, Air Pollution; Nevada Air Quality Regulations—Definitions”, add an entry for “445B.1349” after the entry “445.565” and an entry for “445B.1355” after the entry “445B.135”.

ii. Under the table heading “Nevada Administrative Code, Chapter 445B, Air Controls, Air Pollution; Nevada Administrative Code, Chapter 445, Air Controls, Air Pollution; Nevada Air Quality Regulations—General Provisions”:

A. Revise the entries for “445B.2203” and “445B.2207”.

B. Remove the entry “445B.22096, excluding the NOX averaging time and control type for units 1, 2 and 3 and the NOX emission limit for unit 3 in sub-paragraph (1)(c), all of which EPA has disapproved” and add the entry “445B.22096” in its place.

C. Revise the entry for “445B.22097”.

b. In paragraph (e), in the table under the heading “AIR QUALITY IMPLEMENTATION PLAN FOR THE STATE OF NEVADA”, add the entries “The Nevada Division of Environmental Protection Portion of the Nevada State Implementation Plan for the 2012 Annual Primary Fine Particulate Matter NAAQS, excluding the cover letter; the part addressing the visibility requirements of CAA 110(a)(2)(D)(i)(II) on page 9; and Appendices A-D and F-I”, “The Clark County Portion of the State Implementation Plan to meet the PM2.5 SIP Requirements of the Clean Air Act Section 110(a)(2), excluding the cover letter to NDEP; the part of the submittal addressing the visibility requirements of CAA 110(a)(2)(D)(i)(II) on page 8; and Attachments A, B, and D”, and “The Washoe County Portion of the Nevada State Implementation Plan to Meet the PM2.5 Infrastructure SIP Requirements of Clean Air Act Section 110(a)(2), excluding the cover letter to NDEP and all Attachments and Appendices” after the entry “Nevada's Clean Air Act § 110(a)(1) and (2) State Implementation Plan for the 2010 sulfur dioxide NAAQS, excluding the cover letter and appendices A-E for NDEP; excluding the cover letter to NDEP and attachments A-C for Clark County; and excluding the cover letter to NDEP, attachments A-C, and public notice information for Washoe County”.

The revisions and additions read as follows:

§ 52.1470 Identification of plan.

* * * * *

(c) * * *

Table 1—EPA-Approved Nevada Regulations and Statutes
State citation | Title/subject | State effective date | EPA approval date | Additional explanation
* * * * * * *
Nevada Administrative Code, Chapter 445B, Air Controls, Air Pollution; Nevada Administrative Code, Chapter 445, Air Controls, Air Pollution; Nevada Air Quality Regulations—Definitions
* * * * * * *
445B.1349 | “PM2.5 emissions” defined | 10/27/2015 | [INSERT Federal Register CITATION], 2/16/2023 | Submitted on 12/11/15.
* * * * * * *
445B.1355 | “PM10 emissions” defined | 10/27/2015 | [INSERT Federal Register CITATION], 2/16/2023 | Submitted on 12/11/15.
* * * * * * *
Nevada Administrative Code, Chapter 445B, Air Controls, Air Pollution; Nevada Administrative Code, Chapter 445, Air Controls, Air Pollution; Nevada Air Quality Regulations—General Provisions
* * * * * * *
445B.2203 | Emissions of particulate matter: Fuel-burning equipment | 10/27/2015 | [INSERT Federal Register CITATION], 2/16/2023 | Most recently approved version was submitted on 12/11/15.
* * * * * * *
445B.2207 | Incinerator burning | 10/27/2015 | [INSERT Federal Register CITATION], 2/16/2023 | Most recently approved version was submitted on 12/11/15.
* * * * * * *
445B.22096 | Control measures constituting BART; limitations on emissions | 10/27/2015 | [INSERT Federal Register CITATION], 2/16/2023 | Most recently approved version was submitted on 12/11/15.
445B.22097 | Standards of quality for ambient air | 05/16/2018 | [INSERT Federal Register CITATION], 2/16/2023 | Most recently approved version was submitted on 12/11/15.
* * * * * * *

* * * * *

(e) * * *

EPA-Approved Nevada Nonregulatory Provisions and Quasi-Regulatory Measures
Name of SIP provision | Applicable geographic or nonattainment area | State submittal date | EPA approval date | Additional explanation
Air Quality Implementation Plan for the State of Nevada ¹
* * * * * * *
The Nevada Division of Environmental Protection Portion of the Nevada State Implementation Plan for the 2012 Annual Primary Fine Particulate Matter NAAQS, excluding the cover letter; the part addressing the visibility requirements of CAA 110(a)(2)(D)(i)(II) on page 9; and Appendices A-D and F-I | State-wide within NDEP jurisdiction | 12/11/15 | [INSERT Federal Register CITATION], 2/16/2023 | NDEP “Infrastructure” SIP for the 2012 PM2.5 NAAQS.
The Clark County Portion of the State Implementation Plan to meet the PM2.5 SIP Requirements of the Clean Air Act Section 110(a)(2), excluding the cover letter to NDEP; the part of the submittal addressing the visibility requirements of CAA 110(a)(2)(D)(i)(II) on page 8; and Attachments A, B, and D | Clark County | 12/11/15 | [INSERT Federal Register CITATION], 2/16/2023 | Clark County “Infrastructure” SIP for the 2012 PM2.5 NAAQS.
The Washoe County Portion of the Nevada State Implementation Plan to Meet the PM2.5 Infrastructure SIP Requirements of Clean Air Act Section 110(a)(2), excluding the cover letter to NDEP and all Attachments and Appendices | Washoe County | 12/11/15 | [INSERT Federal Register CITATION], 2/16/2023 | Washoe County “Infrastructure” SIP for the 2012 PM2.5 NAAQS.
* * * * * * *
* * * * * * *
¹ The organization of this table generally follows from the organization of the State of Nevada's original 1972 SIP, which was divided into 12 sections. Nonattainment and maintenance plans, among other types of plans, are listed under Section 5 (Control Strategy). Lead SIPs and Small Business Stationary Source Technical and Environmental Compliance Assistance SIPs are listed after Section 12 followed by nonregulatory or quasi-regulatory statutory provisions approved into the SIP. Regulatory statutory provisions are listed in 40 CFR 52.1470(c).

3. Section 52.1472 is amended by adding paragraph (l) to read as follows:

§ 52.1472 Approval status.

* * * * *

(l) 2012 24-hour PM2.5 NAAQS. The Nevada state implementation plan (SIP) submittal on December 11, 2015 is partially disapproved for the prevention of significant deterioration-related portions of Clean Air Act (CAA) elements 110(a)(2)(C), (D)(i)(II), (D)(ii), and (J) for the NDEP and Washoe County portions of the Nevada SIP. CAA element 110(a)(2)(J) for public notification is conditionally approved for NDEP and Washoe County.

[FR Doc. 2023-02999 Filed 2-15-23; 8:45 am]

BILLING CODE 6560-50-P